DEPARTMENT OF THE INTERIOR

National Park Service

Public Notice

AGENCY: National Park Service, Interior.

SUMMARY: Pursuant to the terms of existing concession permits, public notice is hereby given that the National Park Service intends to request a continuation of visitor services for a period not-to-exceed 1 year from the date of contract expiration.

SUPPLEMENTARY INFORMATION: The contracts listed below have been extended to the maximum allowable under 36 CFR 51.23. Under the provisions of current concession contracts and pending the completion of the public solicitation of a prospectus for a new concession contract, the National Park Service authorizes continuation of visitor services for a period not-to-exceed 1 year under the terms and conditions of the current contract as amended. The continuation of operations does not affect any rights with respect to selection for award of a new concession contract.

Conc ID No. | Concessioner name | Park
CC-BLRI002-83 | Northwest Trading Post, Inc | Blue Ridge Parkway.
CC-BLRI001-93 | Southern Highland Handicraft Guild | Blue Ridge Parkway.
CC-BUIS015-98 | Milemark, Inc | Buck Island Reef National Monument.
CC-CAHA001-98 | Avon-Thornton Limited Partnership | Cape Hatteras National Seashore.
CC-CAHA002-98 | Cape Hatteras Fishing Pier, Inc | Cape Hatteras National Seashore.
CC-CAHA003-84 | Hatteras Island Motel Limited Partnership | Cape Hatteras National Seashore.
CC-CAHA004-98 | Oregon Inlet Fishing Center, Inc | Cape Hatteras National Seashore.
CC-CALO003-98 | Morris Marina, Kabin Kamps & Ferry Service, Inc | Cape Lookout National Seashore.
CC-EVER002-82 | Everglades National Park Boat Tours, Inc | Everglades National Park.
CC-EVER005-89 | Florida National Parks & Monuments Assoc | Everglades National Park.
CC-EVER-001-80 | Xanterra Parks and Resorts | Everglades National Park.
CC-FOSU001-86 | Fort Sumter Tours, Inc | Fort Sumter National Monument.
CC-GRSM002-83 | Leconte Lodge Limited Partnership | Great Smoky Mountains National Park.
CC-MACA002-82 | Forever Resorts, LLC/Forever Resorts, Inc | Mammoth Cave National Park.
CC-VIIS001-71 | Caneel Bay, Inc | Virgin Islands National Park.

DATES: Effective Date: January 1, 2006.

FOR FURTHER INFORMATION CONTACT: Jo A. Pendry, Concession Program Manager, National Park Service, Washington, DC 20240, Telephone, 202/513-7156.

Dated: December 15, 2005.
Alfred J. Poole, III,
Acting Assistant Director, Business Services.

[FR Doc. 06-28 Filed 1-3-06; 8:45 am]

BILLING CODE 4312-53-M